DEPARTMENT OF TRANSPORTATION

Surface Transportation Board

Indexing the Annual Operating Revenues of Railroads

The Surface Transportation Board (STB) is publishing the annual inflation-adjusted index factors for 2014. These factors are used by the railroads to adjust their gross annual operating revenues for classification purposes. This indexing methodology ensures that railroads are classified based on real business expansion and not from the effects of inflation. Classification is important because it determines the extent to which individual railroads must comply with STB reporting requirements.

The STB's annual inflation-adjusted factors are based on the annual average Railroad's Freight Price Index which is developed by the Bureau of Labor Statistics (BLS). The STB's deflator factor is used to deflate revenues for comparison with established revenue thresholds.

The base year for railroads is 1991. The inflation index factors are presented as follows:

STB Railroad Inflation-Adjusted Index and Deflator Factor Table
Year | Index | Deflator
1991 | 409.50 | ¹100.00
1992 | 411.80 | 99.45
1993 | 415.50 | 98.55
1994 | 418.80 | 97.70
1995 | 418.17 | 97.85
1996 | 417.46 | 98.02
1997 | 419.67 | 97.50
1998 | 424.54 | 96.38
1999 | 423.01 | 96.72
2000 | 428.64 | 95.45
2001 | 436.48 | 93.73
2002 | 445.03 | 91.92
2003 | 454.33 | 90.03
2004 | 473.41 | 86.40
2005 | 522.41 | 78.29
2006 | 567.34 | 72.09
2007 | 588.30 | 69.52
2008 | 656.78 | 62.28
2009 | 619.73 | 66.00
2010 | 652.29 | 62.71
2011 | 708.80 | 57.71
2012 | 740.61 | 55.23
2013 | 764.19 | 53.53
2014 | 778.41 | 52.55
¹ Ex Parte No. 492, Montana Rail Link, Inc., and Wisconsin Central Ltd., Joint Petition For Rulemaking With Respect To 49 CFR 1201, 8 I.C.C. 2d 625 (1992), raised the revenue classification level for Class I railroads from $50 million (1978 dollars) to $250 million (1991 dollars), effective for the reporting year beginning January 1, 1992. The Class II threshold was also raised from $10 million (1978 dollars) to $20 million (1991 dollars).

Effective Date: January 1, 2014.

FOR FURTHER INFORMATION CONTACT: Pedro Ramirez 202-245-0333. [Federal Information Relay Service (FIRS) for the hearing impaired: 1-800-877-8339]

By the Board, William F. Huneke, Director, Office of Economics.
Jeffrey Herzig,
Clearance Clerk.

[FR Doc. 2015-16907 Filed 7-9-15; 8:45 am]

BILLING CODE 4915-01-P